DEPARTMENT OF TRANSPORTATION

National Highway Traffic Safety Administration

[U.S. DOT Docket Number NHTSA-2007-28654]

Reports, Forms and Record Keeping Requirements; Agency Information Collection Activity Under OMB Review

AGENCY: National Highway Traffic Safety Administration, DOT.

ACTION: Notice.

SUMMARY: In compliance with the Paperwork Reduction Act of 1995 (44 U.S.C. 3501, et seq.), this notice announces that the Information Collection Request (ICR) abstracted below has been forwarded to the Office of Management and Budget (OMB) for review and comment. The ICR describes the nature of the information collections and their expected burden. The Federal Register Notice with a 60-day comment period was published on July 20, 2007 [NHTSA-2007-28654].

DATES: Comments must be submitted on or before November 13, 2007.

FOR FURTHER INFORMATION CONTACT: Marie Walz, NHTSA, 1200 New Jersey Avenue, SE., W53-436, NVS-431, Washington, DC 20590. Ms. Walz's telephone number is (202) 366-5377.

SUPPLEMENTARY INFORMATION:

National Highway Traffic Safety Administration

Title: Evaluation of State Motorcycle Safety Programs.

Type of Request: New Collection.

Abstract: NHTSA will conduct a survey of State Motorcycle Safety Administrators and/or State Highway Safety Offices in all 50 States and the District of Columbia to gather data on state-level motorcycle safety programs. This survey will consist of a questionnaire in mail (paper and pencil) format, which will allow a telephone follow-up for further details as necessary. The study will use the State Motorcycle Safety Administrator and State Highway Safety Office survey to gather comprehensive data on what each of the 50 States and the District of Columbia are doing to promote and ensure safe riding behavior.

Affected Public: State and Local government.

Estimated Total Annual Burden: Hours: 26. Cost: None.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Joseph S. Carra,
Associate Administrator for National Center for Statistics and Analysis.

[FR Doc. E7-20044 Filed 10-10-07; 8:45 am]

BILLING CODE 4910-59-P